GENERAL SERVICES ADMINISTRATION

Notice of Availability; Environmental Assessment and Finding of No Significant Impact for the Proposed Master Development Plan for the U.S. Consumer Product Safety Commission, Gaithersburg, MD

AGENCY: Office of Portfolio Management, General Services Administration.

ACTION: Notice.

SUMMARY: The General Services Administration is publishing a Final Environmental Assessment (EA) and Finding of No Significant Impact (FONSI) for the Proposed Master Development Plan for the U.S. Consumer Product Safety Commission in Gaithersburg, Maryland.

FOR FURTHER INFORMATION CONTACT: Mr. Ernest Hall, Office of Portfolio Management, WPT, General Services Administration, NCR, 7th and D Streets, SW., Washington, DC, 20407; (202) 401-2354; e-mail at ernest.hall@hsa.gov.

SUPPLEMENTARY INFORMATION: The notice of availability is as follows:

Notice of Availability; Environmental Assessment and Finding of No Significant Impact for the Proposed Master Development Plan for the U.S. Consumer Product Safety Commission, Gaithersburg, Maryland

Reply to the Attention of: Mr. Ernest Hall, Office of Portfolio Management, WPT, General Services Administration, NCR, 7th & D Streets, SW., Washington, DC 20407. (202) 401-2354. E-mail: ernest.hall@hsa.gov.

The General Services Administration (GSA) is publishing a Final Environmental Assessment (EA) and Finding of No Significant Impact (FONSI) for the Proposed Master Development Plan for the U.S. Consumer Product Safety Commission (CPSC) in Gaithersburg, Maryland. The Final EA will be available for public review at the following locations:

GSA National Capital Region, 301 7th Street, SW., Room 7600, Washington, DC 20407.

The Gaithersburg Library, 8660 Montgomery Village Avenue, Gaithersburg, Maryland 20877.

Gaithersburg City Hall, 31 South Summit Avenue, Gaithersburg, MD 20877.

The GSA, acting as development manager for Federal facilities, proposed to adopt a Master Development Plan for the U.S. CPSC National Laboratory in Gaithersburg, Maryland. The plan includes a proposal to construct a Sample Storage Facility on the southeast quadrant of the site and to renovate and expand existing facilities. The proposed action would consist of constructing an 18,000 square foot Sample Storage Facility on the southeast quadrant of the site, and upgrading Buildings A, B, and C to meet CPSC specifications, including adding a connector between Buildings B and C. Interior renovations are required for Buildings E, F, G, and H to bring all aspects of the buildings up to current code requirements. Two additional small burn room areas will be added to the west end of Building G. The proposed action would also include relocating existing water lines, sewer lines, and electrical ducts.

When compared to the other build alternatives in the Final EA, the proposed action would result in the least amount of changes to the site, is the least costly to implement, and best meets CPSC's long-range needs. The proposed action will incorporate measures such as enhanced landscaping and a stormwater detention area to mitigate any permanent aesthetic or stormwater impacts of the proposed development and expansions/renovations.

Finding

Pursuant to the provision of GSA Order ADM 1095.1F, the PBS NEPA Desk Guide, and the regulations issued by the Council of Environmental Quality, (40 CFR parts 1500 to 1508), this is to advise you of our finding, based on the Final Environmental Assessment (EA), that the action described above is considered a major Federal action not significantly affecting the quality of the human environment.

Basis for Finding

The environmental impacts of constructing and operating the proposed facilities were considered in the Final EA pursuant to the National Environmental Policy Act (NEPA). The Final EA, which is available for review at the locations listed on page 1, is incorporated by reference in the FONSI. Constructing and operating the proposed project will not have a significant adverse affect on the human environment.

The EA documents the master planning process undertaken for the future use of the site. The direct, indirect, and cumulative impacts of the three build alternatives and the no action alternative were analyzed in accordance with the NEPA, and the Council on Environmental Quality (CEQ) regulations implementing NEPA. The Final EA analyzes the reasonably foreseeable environmental impacts that could result from the three build alternatives and the no action alternative.

Regardless of which build alternative is selected, all alternatives would involve temporary construction disturbances to the ambient air and noise environment, soils, and stormwater runoff from the site. However, Alternative 2 would involve substantially greater disruption affecting the entire site over a longer period of time. Alternative 3 would involve reducing the existing landscaping. Under the preferred alternative, improvements would affect less than ¼ of the existing site and will incorporate measures such as enhanced landscaping and a stormwater detention area to mitigate any permanent aesthetic or stormwater effects of the proposed CPSC development and renovations. To mitigate potential impacts, GSA will implement the measures that are discussed in the Environmental Assessment.

This Finding of No Significant Impact will become final thirty (30) days after publication in the Federal Register provided that no information leading to a contrary finding is received or comes to light during the 30-day public review period.

Donald C. Williams,
Regional Administrator, National Capital Region, U.S. General Services Administration.

[FR Doc. 02-21072 Filed 8-19-02; 8:45 am]

BILLING CODE 6820-23-M